DEPARTMENT OF COMMERCE

Quarterly Survey of State and Local Tax Revenues; Proposed Collection; Comment Request

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 24, 2002.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Requests for additional information or copies of the information collection instrument(s) and instructions should be directed to David A. Kellerman, Chief, Public Finance Analysis Branch-B, Governments Division, U.S. Census Bureau, Washington, DC 20233-6800 (301-763-7242).

SUPPLEMENTARY INFORMATION:

I. Abstract

The Census Bureau plans to request an extension of the Quarterly Survey of State and Local Tax Revenue. The Bureau needs State and local tax data to publish benchmark statistics on public sector taxes; to provide data to the Bureau of Economic Analysis for GDP calculations and other economic indicators; and to provide data for economic research and comparative studies of governmental finances. Data are collected on a quarterly basis from State and local tax collecting agencies.

Tax collection data are used to measure economic activity for the Nation as a whole, as well as for comparison among the various states. These data also are useful in comparing the mix of taxes employed by individual states, and in determining the revenue raising capacity of different types of taxes.

The Quarterly Survey of Property Tax Collections (form F-71) is sent to 5,739 local government tax collecting agencies in 530 county areas. While some counties are served by a single county level tax collection agency, others have county, city, township, and even school district collectors. Each agency is asked to report the total property tax collections during the past quarter.

The Quarterly Survey of State Tax Collections (Form F-72) is sent to a state level revenue, finance, or budget agency in each state to report tax collection data for the preceding 3-month period.

The Quarterly Survey of Selected Local Taxes (Form F-73) is sent to 70 local tax collection agencies known to have substantial collections of local general sales and/or local individual income taxes.

The expected decrease in the respondent burden is due to a slight reduction in the universe of the survey. Due to the disincorporation and consolidation of certain tax collecting agencies, the number of respondents receiving Form F-71 has decreased by 61. The F-73 increased by 15 due to creation of a new sample. There are no planned content changes to any form.

II. Method of Collection

The F-71 portion of the survey is conducted by mail canvass. Responses are screened manually and then entered on a microcomputer

F-73 forms are sent to respondents by mail canvass or electronically via e-mail. Several respondents have requested to conduct the survey through electronic mail.

F-72 forms are sent to respondents by either facsimile or e-mail (as requested). Respondents are given the option of returning the forms through facsimile, mail or electronically via e-mail.

Telephone follow up of large property tax collectors is the main method used to maximize response. In those instances when we are not able to obtain a response, estimates are made for non-respondents by using data of the same quarter from the last year it had been received.

III. Data

OMB Number: 0607-0112.

Form Number: F-71, F-72, and F-73.

Type of Review: Regular.

Affected Public: State and local governments.

Estimated Number of Respondents: 5,860.

Estimated Time Per Response: 25 minutes.

Estimated Total Annual Burden Hours: 5,911.

Estimated Total Annual Cost: The estimated cost to the respondents is $107,226.

Respondent's Obligation: Voluntary.

Legal Authority: Title 13 U.S.C., Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 21, 2002.
Madeleine Clayton,
Management Analyst, Office of the Chief Information Officer.

[FR Doc. 02-27214 Filed 10-24-02; 8:45 am]

BILLING CODE 3510-07-P